FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

AB Plant Shipping USA, L.L.C. (NVO & OFF), 14614 Falling Creek, #132, Houston, TX 77068. Officers: William J. Blair, General Manager (Qualifying Individual), Andrew P. Bottomley, Managing Partner, Application Type: QI Change and Add OFF Service.

All Transport Export Inc (NVO & OFF), 4224 Shackleford Road, Suite 3, Norcross, GA 30093. Officer: Valery Baranouski, President/Secretary (Qualifying Individual), Application Type: New NVO & OFF License.

Ancora Shipping Line, LLC (NVO & OFF), 750 East Sample Road, Bldg. #2, Suite #205, Pompano Beach, FL 33064. Officers: Ford M. Orton, Managing Member/Manager (Qualifying Individual), Nils P. Marsen, Managing Member, Application Type: New NVO & OFF License.

Andrea Bigi dba AB Global Logistics Consulting (OFF), 1010 19th Street, #10, Santa Monica, CA 90403. Officer: Andrea Bigi, Sole Proprietor (Qualifying Individual), Application Type: New OFF License.

Annex Brands, Inc. (NVO & OFF), 5675 DTC Blvd., #280, Greenwood Village, CO 80111. Officers: Joanne Kirkpatrick, International Logistics Officer (Qualifying Individual), Jack R. Lentz, CEO/Chairman/Secretary, Application Type: New NVO & OFF License.

Ark Shipping Line Limited Liability Company (NVO & OFF), 239 Albert Street, North Plainfield, NJ 07063. Officer: Fawwad Mohammad, Chief Executive Manager (Qualifying Individual), Application Type: New NVO & OFF License.

BK Logistics Corp. (NVO & OFF), 373 Van Ness Avenue, #110, Torrance, CA 90501. Officer: Christine M. Kim, President/VP/Secretary/CFO (Qualifying Individual), Application Type: New NVO & OFF License.

CALS Logistics USA, Inc. (NVO & OFF), 755 N. Route 83, Suite 275, Bensenville, IL 60106. Officers: Mira Lee, Customer Service Officer-Air & Ocean (Qualifying Individual), Bok H. Chua, President, Application Type: QI Change.

Cargo Celeste Logistics LLC (NVO & OFF), 205 Branch Valley Way, Dallas, GA 30132. Officer: Jennifer C. Galan, President (Qualifying Individual), Application Type: New NVO & OFF License.

Core Freight Inc. (NVO), 21-03 124th Street, College Point, NY 11356. Officer: Hsin H. Chen, President/Secretary (Qualifying Individual), Application Type: New NVO License.

DTS Advance LLC (NVO & OFF), 38850 Taylor Parkway, North Ridgeville, OH 44039. Officers: Donald B. Hackney, Vice President, Operations (Qualifying Individual), Depeng Tong, Executive Director, Application Type: New NVO & OFF License.

FSI Cargo, Corp. (NVO & OFF), 10025 NW 116th Way, Suite 17, Medley, FL 33178. Officer: Milagros Garcia, President/Secretary (Qualifying Individual), Application Type: New NVO & OFF License.

George Dobovanszky dba Stratus Logistics (NVO & OFF), 320 Pine Avenue, Suite 403, Long Beach, CA 90802. Officer: George Dobovanszky, Sole Proprietor (Qualifying Individual), Application Type: New NVO & OFF License.

Yusen Logistics (Americas) Inc. dba Yusen Logistics dba Double Wing Express (NVO & OFF), 377 Oak Street, Suite 302, Garden City, NJ 11530. Officers: Karen Yvonne Quintana, Vice President (Qualifying Individual), Kazuo Ishizuka, President/CEO, Application Type: Business Structure Change and QI Change.

Dated: March 18, 2011.
Karen V. Gregory,
Secretary.

[FR Doc. 2011-6862 Filed 3-22-11; 8:45 am]

BILLING CODE 6730-01-P